DEPARTMENT OF HEALTH AND HUMAN SERVICES

Administration for Children and Families

Proposed Information Collection Activity; Comment Request

Title: Subsidized and Transitional Employment Demonstration and Evaluation Project (STEDEP).

OMB No.: New Collection.

Billing Accounting Code (BAC): 418409 (CAN G996121).

Description: The Administration for Children and Families (ACF) is proposing an information collection activity as part of the Subsidized and Transitional Employment Demonstration and Evaluation Project. The proposed information collection consists of semi-structured interviews with key respondents involved with subsidized and transitional employment programs. Through this information collection and other study activities, ACF seeks to identify the types of strategies that should be tested within the context of current TANF policies and requirements as well as recent efforts under the American Recovery and Reinvestment Act (ARRA).

Respondents: Experts and stakeholders such as researchers, policy experts, coordinators (e.g. state-level coordinators), subsidized and transitional employment program directors and staffs.

Annual Burden Estimates
Instrument | Number of respondents | Number of responses per respondent | Average burden hours per response | Total burden hours
Discussion Guide for Use with Researchers, Policy Experts, and State-level Coordinators | 50 | 1 | 1 | 50
Discussion Guide for use with Program Directors | 25 | 1 | 2.5 | 63
Discussion Guide for Use with Program Staff | 50 | 1 | 2 | 100

Estimated Total Annual Burden Hours: 213.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven Hanmer,
OPRE Reports Clearance Officer.

[FR Doc. 2010-16332 Filed 7-6-10; 8:45 am]

BILLING CODE 4184-01-M